DEPARTMENT OF ENERGY

Federal Energy Regulatory Commission

Combined Notice of Filings #2

Take notice that the Commission received the following electric corporate filings:

Docket Numbers: EC15-98-000.

Applicants: Union Power Partners, L.P., Entergy Arkansas, Inc., Entergy Gulf States Louisiana, L.L.C., Entergy Texas, Inc.

Description: Response to May 28, 2015 letter requesting additional information of Entergy Services, Inc. on behalf of Union Power Partners, L.P., et al.

Filed Date: 6/30/15.

Accession Number: 20150630-5458.

Comments Due: 5 p.m. ET 8/14/15.

Take notice that the Commission received the following electric rate filings:

Docket Numbers: ER13-1942-001.

Applicants: New York Independent System Operator, Inc.

Description: Compliance filing: NYISO Compliance Order 1000 Interregional Tariff Revisions to be effective 1/1/2014.

Filed Date: 7/13/15.

Accession Number: 20150713-5137.

Comments Due: 5 p.m. ET 8/3/15.

Docket Numbers: ER13-1946-001.

Applicants: New York Independent System Operator, Inc.

Description: Compliance filing: Compliance Filing Order No. 1000 Designation of Filing Party to be effective 7/13/2015.

Filed Date: 7/13/15.

Accession Number: 20150713-5140.

Comments Due: 5 p.m. ET 8/3/15.

Docket Numbers: ER13-1957-001.

Applicants: ISO New England Inc.

Description: Compliance filing: Second Interregional Compliance Filing Protocol Agreement to be effective 7/13/2015.

Filed Date: 7/13/15.

Accession Number: 20150713-5106.

Comments Due: 5 p.m. ET 8/3/15.

Docket Numbers: ER13-1960-001.

Applicants: ISO New England Inc., New England Power Pool Participants Committee.

Description: Compliance filing: Second Interregional Compliance Filing Tariff Revisions to be effective 1/1/2014.

Filed Date: 7/13/15.

Accession Number: 20150713-5139.

Comments Due: 5 p.m. ET 8/3/15.

Docket Numbers: ER14-1661-001.

Applicants: MidAmerican Central California Transco, LLC.

Description: Compliance filing: Settlement Compliance Filing to be effective 6/5/2014.

Filed Date: 7/13/15.

Accession Number: 20150713-5101.

Comments Due: 5 p.m. ET 8/3/15.

Docket Numbers: ER15-535-002.

Applicants: Nevada Power Company.

Description: Compliance filing: OATT Order No. 676-H Compliance Filing 07.13.15 to be effective 5/15/2015.

Filed Date: 7/13/15.

Accession Number: 20150713-5138.

Comments Due: 5 p.m. ET 8/3/15.

Docket Numbers: ER15-2184-000.

Applicants: Southwest Power Pool, Inc.

Description: Section 205(d) Rate Filing: 3055 Associated Electric Cooperative, Inc. NITSA NOA to be effective 6/1/2015.

Filed Date: 7/13/15.

Accession Number: 20150713-5053.

Comments Due: 5 p.m. ET 8/3/15.

Docket Numbers: ER15-2185-000.

Applicants: PJM Interconnection, L.L.C.

Description: Section 205(d) Rate Filing: Service Agreement No. 4210; Queue No. Z2-090 to be effective 4/8/2015.

Filed Date: 7/13/15.

Accession Number: 20150713-5054.

Comments Due: 5 p.m. ET 8/3/15.

Docket Numbers: ER15-2186-000.

Applicants: Midcontinent Independent System Operator, Inc.

Description: Section 205(d) Rate Filing: 2015-07-13 RSG Interchange Schedules Emergency Directives to be effective 9/11/2015.

Filed Date: 7/13/15.

Accession Number: 20150713-5125.

Comments Due: 5 p.m. ET 8/3/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 13, 2015.
Nathaniel J. Davis, Sr.,
Deputy Secretary.

[FR Doc. 2015-17692 Filed 7-17-15; 8:45 am]

BILLING CODE 6717-01-P